DEPARTMENT OF HEALTH AND HUMAN SERVICES

Administration for Children and Families

Submission for OMB Review; Generic Clearance for Financial Reports Used for ACF Mandatory Grant Programs (OMB #0970-0510)

AGENCY: Administration for Children and Families, HHS.

ACTION: Request for public comment.

SUMMARY: The Administration for Children and Families (ACF) proposes to extend data collection under the existing overarching generic clearance for Financial Reports used for ACF Mandatory Grant Programs (OMB #0970-0510). There are no changes to the proposed types of information collection or uses of data.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: ACF programs need detailed financial information from recipients that receive federal funds, such as grantees, to monitor various specialized cost categories within each program, to closely manage program activities, and to have sufficient financial information to enable periodic thorough and detailed audits. Information collected through the Federal Financial Report (Standard Form (SF)-425) provides general information, but does not provide program-specific information that is necessary for ACF program office decision making. This generic clearance allows ACF to collect program-specific financial information from mandatory grant programs.

Program offices use the information collected under this generic information collection to:

• Monitor program operations and prepare technical assistance and guidance, as needed.

• Assist in the computation of the grant awards issued to each program's grantees or annual incentive payments (Child Support Enforcement Program only).

• Determine that child support collections are being properly distributed (Child Support Enforcement Program only).

• Produce annual financial and statistical reports as may be required by Congress and respond to periodic detailed inquiries from Congress.

ACF may require an information collection approved under this generic clearance from funding recipients in order to obtain or retain benefits.

Following standard OMB requirements for a generic information collection, ACF will submit a generic information collection request for each individual data collection activity under this generic clearance. Each request will include the individual form(s) and instructions, and a short overview of the proposed purpose and use of the data collected. OMB should review requests within 10 days of submission.

Respondents: ACF-funded mandatory grant programs.

Annual Burden Estimates
Instrument | Number of respondents | Number of responses per respondent | Average burden hours per response | Annual burden hours
Mandatory Grant Financial Reports | 1000 | 4 | 10 | 40,000

Estimated Total Annual Burden Hours: 40,000.

Mary B. Jones,
ACF/OPRE Certifying Officer.

[FR Doc. 2021-05632 Filed 3-17-21; 8:45 am]

BILLING CODE 4184-79-P